DEPARTMENT OF TRANSPORTATION

Federal Railroad Administration

[Docket Number FRA-2012-0079]

Petition for Waiver of Compliance

In accordance with Part 211 of Title 49 Code of Federal Regulations (CFR), this document provides the public notice that by a document dated September 24, 2012, Long Island Rail Road (LIRR) has petitioned the Federal Railroad Administration (FRA) for a waiver of compliance from certain Federal hours of service requirements for train employees engaged in commuter or intercity rail passenger transportation contained at 49 CFR 228.405(a)(3). FRA assigned the petition Docket Number FRA-2012-0079.

In its petition, LIRR seeks a waiver allowing the series of at most 14 consecutive calendar days to reset after a general pick, or after a large timetable revision. A general pick, as described by LIRR, is a biannual event allowing train employees to bid on jobs with jobs being awarded based on an employee's seniority. FRA's current policy only allows a maximum series of at most 14 consecutive calendar days to reset at the end of the 14th day, or when an employee does not initiate an on-duty period for any 2 calendar days within the 14 consecutive calendar-day series.

In support of the request, LIRR explained that after the first general pick, about 20 employees were required to take 1 or 2 workdays off to avoid violating Federal requirements. As a result, employees suffered financially, and employee availability was reduced, disrupting LIRR's ability to provide timely and efficient service for its customers. LIRR argues that allowing the 14 consecutive calendar-day series to reset after a general pick, or a large timetable revision, will prevent any future employee financial losses and disruptions in LIRR's ability to provide optimum service to its customers.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate Docket Number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 31, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on November 8, 2012.
Robert C. Lauby,
Deputy Associate Administrator for Regulatory and Legislative Operations.

[FR Doc. 2012-27863 Filed 11-15-12; 8:45 am]

BILLING CODE 4910-06-P